ENVIRONMENTAL PROTECTION AGENCY

[EPA-HQ-OPP-2015-0715; FRL-10023-75-OMS]

Information Collection Request Submitted to OMB for Review and Approval; Comment Request; Tolerance Petitions for Pesticides on Food or Feed Crops and New Food Use Inert Ingredients (Renewal)

AGENCY: Environmental Protection Agency (EPA).

ACTION: Notice.

SUMMARY: The Environmental Protection Agency (EPA) has submitted an information collection request (ICR), Tolerance Petitions for Pesticides on Food or Feed Crops and New Food Use Inert Ingredients (EPA ICR Number 0597.13, OMB Control Number 2070-0024) to the Office of Management and Budget (OMB) for review and approval in accordance with the Paperwork Reduction Act. This is a proposed extension of the ICR, which is currently approved through April 30, 2022. Public comments were previously requested via the Federal Register on August 17, 2020 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before June 7, 2021.

ADDRESSES: Submit your comments to EPA, referencing Docket ID No. EPA-HQ-OPP-2015-0715, online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Carolyn Siu, Mission Support Division (7101M), Office of Program Support, Environmental Protection Agency, 1200 Pennsylvania Ave. NW, Washington, DC 20460; telephone number: (703) 347-0159; email address: siu.carolyn@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The use of pesticides to increase crop production often results in pesticide residues in or on the crop. To protect public health from unsafe pesticide residues, EPA sets limits on the nature and level of residues permitted pursuant to section 408 of the Federal Food, Drug and Cosmetic Act (FFDCA). A pesticide may not be used on food or feed crops unless the Agency has established a tolerance (maximum residue limit) for the pesticide residues on that crop or established an exemption from the requirement to have a tolerance.

Form Numbers: None.

Respondents/Affected Entities: Individuals or entities engaged in activities related to the registration of a pesticide product and establishments primarily engaged in administrative management and general management consulting services.

Respondent's obligation to respond: Mandatory (FIFRA Section 408).

Estimated number of respondents: 165 (total).

Frequency of response: On Occasion.

Total estimated burden: 285,128 hours (per year). Burden is defined at 5 CFR 1320.3(b).

Total estimated costs: $27,475,223 (per year), includes $0 annualized capital or operation & maintenance costs.

Changes in the estimates: There is no change in the number of hours in the total estimated respondent burden compared with the ICR currently approved by OMB.

Courtney Kerwin,
Director, Regulatory Support Division.

[FR Doc. 2021-09637 Filed 5-6-21; 8:45 am]

BILLING CODE 6560-50-P